DEPARTMENT OF THE INTERIOR

Bureau of Land Management

[LLWY920000. L51040000.FI0000. 16XL5017AR]

Notice of Proposed Reinstatement of Terminated Oil and Gas Lease WYW180623, Wyoming

AGENCY: Bureau of Land Management, Interior.

ACTION: Notice.

SUMMARY: As provided for under the Mineral Leasing Act of 1920, as amended, the Bureau of Land Management (BLM) received a petition for reinstatement of competitive oil and gas lease WYW180623 from Bondero, LLC and Wave Petroleum, LLC for land in Converse County, Wyoming. The lessees filed the petition on time, along with all rentals due since the lease terminated under the law. No leases affecting this land were issued before the petition was filed.

FOR FURTHER INFORMATION CONTACT: Chris Hite, Branch Chief for Fluid Minerals Adjudication, Bureau of Land Management, Wyoming State Office, 5353 Yellowstone Road, Cheyenne, Wyoming 82009; phone 307-775-6176; email chite@blm.gov.

Persons who use a telecommunications device for the deaf may call the Federal Relay Service (FRS) at 1-800-877-8339 to contact Mr. Hite during normal business hours. The FRS is available 24 hours a day, 7 days a week, to leave a message or question with the above individual. A reply will be sent during normal business hours.

SUPPLEMENTARY INFORMATION: Termination of a lease is automatic and statutorily imposed by Congress when rental fees are not paid in a timely manner. Reinstatement terms are also set by Congress. Oil and gas lease WYW180623 terminated effective April 1, 2016, for failure to pay rental timely. The lessees petitioned for reinstatement of the lease and met all filing requirements for a Class II reinstatement. The lessees agreed to the amended lease terms for rentals and royalties at rates of $10 per acre, or fraction thereof, per year and 16⅔ percent, respectively. The lessees paid the required $500 administrative fee and the $159 cost of publishing this notice. The lessees met the requirements for reinstatement of the lease per Sec. 31(d) and (e) of the Mineral Leasing Act of 1920 (30 U.S.C. 188). Reinstatement of this lease conforms to the terms and conditions of all applicable land use plans, including the 2015 Approved Resource Management Plan Amendments for the Rocky Mountain Region, and other National Environmental Policy Act documents.

The BLM proposes to reinstate the lease effective April 1, 2016, under the original terms and conditions of the lease and the increased rental and royalty rates cited above. The lease will be reinstated 30 days after publication of this proposed reinstatement notice in the Federal Register.

Authority: 30 U.S.C. 188 (e)(4) and 43 CFR 3108.2-3 (b)(2)(v).

Chris Hite,
Chief, Branch of Fluid Minerals Adjudication.

[FR Doc. 2020-01843 Filed 1-30-20; 8:45 am]

BILLING CODE 4310-22-P